POSTAL SERVICE

Plan for Secure Postage Meter Technology

AGENCY: Postal Service.

ACTION: Revision of final plan.

SUMMARY: The Postal™ Service published a schedule for the withdrawal from the market of postage meters involving technology defined as within “phases III and IV” of the Postal Service's Plan for Secure Postage Meter Technology. The schedule and definition of these phases were published in the Federal Register on February 13, 2002 (Vol. 67, No. 30, pages 6766-6767). This notice revises the postage meter retirement schedule by extending the final date for placement of enhanced Computerized Meter Resetting System (CMRS) letterpress meters, identified in the Federal Register notice as phase IV meters, to December 31, 2004. No other changes are made to the plan as stated in the Federal Register.

DATES: This notice is effective March 29, 2004.

FOR FURTHER INFORMATION CONTACT: Wayne Wilkerson by fax at (703) 292-4073.

SUPPLEMENTARY INFORMATION: Phases III and IV of the Postal Service Plan for Secure Postage Meter Technology describe the retirement of postage meters which employ letterpress printing technology. To address customer concerns regarding the availability of postage meters employing digital printing technology and capable of operating at sufficient speeds to meet the needs of market segments now using phase IV letterpress postage meters, the Postal Service is extending the date for final placements of phase IV meters to December 31, 2004. However, the final date for removal of these meters from the market remains December 31, 2008. To avoid any misunderstanding, we are reprinting in this notice the entire Postal Service Plan for the Retirement of Letterpress Postage Meters with the revised date for ending the placement of phase IV meters.

Revision of the Final Postal Service Plan for the Retirement of Letterpress Postage Meters

(The changes are shown in italicized text.)

Phases III and IV of the Postal Service Plan for Secure Postage Meter Technology affect postage meters that use letterpress printing technology and are reset remotely under the Computerized Meter Resetting System (CMRS). The affected meters print indicia with letterpress technology and may or may not have a digital display. If such a meter has an additional feature that automatically disables the meter if it is not reset within a specified time period or when certain preprogrammed criteria are met, it is called an enhanced meter. Phase III of the proposed plan required that the users of nonenhanced CMRS letterpress meters be notified by the manufacturer of the schedule for the retirement of their meters by December 31, 2001 and placement of nonenhanced CMRS letterpress meters could not continue after December 31, 2002. These meters must be off the market and withdrawn from service by December 31, 2006. Prior to the signing of a contract for the new placement of any nonenhanced CMRS non-digitally printing meter, the manufacturer placing the meter must notify the customer that the meter must be withdrawn from service by December 31, 2006. Phase IV of the plan required that the customers of enhanced CMRS letterpress meters be notified of the schedule for the retirement of their meters by June 30, 2003. The placement of enhanced CMRS letterpress meters is scheduled to cease by December 31, 2004, and these meters must be off the market and withdrawn from service by December 31, 2008. Prior to the signing of a contract for the new placement of any enhanced CMRS non-digitally printing meter, the manufacturer placing the meter must notify the customer that the meter must be withdrawn from service by December 31, 2008.

Neva Watson,
Attorney, Legislative.

[FR Doc. 04-6887 Filed 3-26-04; 8:45 am]

BILLING CODE 7710-12-P